DEPARTMENT OF HEALTH AND HUMAN SERVICES

National Institutes of Health

Center for Scientific Review; Amended Notice of Meeting

Notice is hereby given of a change in the meeting of the Macromolecular Structure and Function A Study Section, October 3, 2013, 08:00 a.m. to October 3, 2013, 05:00 p.m., George Washington University Inn, 824 New Hampshire Avenue NW., Washington, DC 20037, which was published in the Federal Register on September 9, 2013, 78 FR 55086.

The meeting will be held on November 22, 2013 from 10:00 a.m. to 4:00 p.m. at the National Institutes of Health, 6701 Rockledge Drive, Bethesda, MD 20892. The meeting is closed to the public.

Dated: October 29, 2013.
Melanie J. Gray,
Program Analyst, Office of Federal Advisory Committee Policy.

[FR Doc. 2013-26207 Filed 11-1-13; 8:45 am]

BILLING CODE 4140-01-P